FEDERAL COMMUNICATIONS COMMISSION

Radio Broadcasting Services; AM or FM Broadcast Proposals To Change the Community of License

AGENCY: Federal Communications Commission.

ACTION: Notice.

SUMMARY: The following applicants filed AM or FM broadcast proposals to change the community of license: AAA LICENSING LLC, BPH-20070119AAC, Station WEHM, Facility ID 52059, From SOUTHAMPTON, NY, To MANORVILLE, NY; ACE RADIO CORPORATION, BNPH-20060308AJG, Station NEW, Facility ID 166075, From MERTZON, TX, To WALL, TX; ACE RADIO CORPORATION, BMPH-20070119AHF, Station KRPH, Facility ID 166065, From YARNELL, AZ, To MORRISTOWN, AZ; ACE RADIO CORPORATION, BMPH-20070119AHW, Station KGRP, Facility ID 166069, From JENNER, CA, To CAZADERO, CA; AGM CALIFORNIA, BPH-20070119AHV, Station KGFM, Facility ID 36234, From BAKERSFIELD, CA, To EDISON, CA; AIM BROADCASTING-PHOENIX/TUCSON LLC, BP-20070119AFP, Station KSAZ, Facility ID 51079, From MARANA, AZ, To QUEEN CREEK, AZ. See SUPPLEMENTARY INFORMATION.

DATES: Comments may be filed through April 16, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Additionally, the following applicants filed AM or FM broadcast proposals to change the community of license: ALELUYA CHRISTIAN BROADCASTING, INC, BP-20061208ACE, Station KBRZ, Facility ID 12156, From FREEPORT, TX, To MISSOURI CITY, TX; ALELUYA CHRISTIAN BROADCASTING, INC, BP-20070125ADS, Station KBRZ, Facility ID 12156, From FREEPORT, TX, To MISSOURI CITY, TX; ALEXXON CORP., BMPH-20070119AHD, Station NEW, Facility ID 166090, From GROVETON, NH, To LUNENBURG, VT; ALPINE BROADCASTING CORP., INC., BPH-20070119ADS, Station WAVV, Facility ID 1154, From MARCO, FL, To NAPLES PARK, FL; ANASTOS MEDIA GROUP, INC., BP-20070119AEY, Station WUAM , Facility ID 72620, From SARATOGA SPRINGS, NY, To WATERVLIET, NY; AURORA MEDIA, LLC, BMPH-20070119AIH, Station KMOA, Facility ID 164097, From CALIENTE, NV, To MOAPA, NV; BLUE CHIP BROADCASTING LICENSES, LTD, BPH-20070119AGF, Station WDHT, Facility ID 60252, From SPRINGFIELD, OH, To URBANA, OH; BLUE CHIP BROADCASTING LICENSES, LTD, BPH-20070119AGI, Station WKSW, Facility ID 10113, From URBANA, OH, To ENON, OH; BMP AUSTIN LICENSE COMPANY, L.P., BPH-20070119AER, Station KXXS, Facility ID 40762, From DRIPPING SPRINGS, TX, To BEE CAVE, TX; BONNEVILLE HOLDING COMPANY, BPH-20070119AFU, Station WTWP-FM, Facility ID 21636, From WARRENTON, VA, To MANASSAS, VA; BROADCAST COMMUNICATIONS, INC., BMPH-20070119AGW, Station WROG, Facility ID 49384, From CUMBERLAND, MD, To CHAMBERSBURG, PA; BROADCAST COMMUNICATIONS, INC., BPH-20070119AGZ, Station WANB-FM, Facility ID 32210, From WAYNESBURG, PA, To MOUNT PLEASANT, PA; BRUNDAGE MOUNTAIN AIR INC., BPH-20061020ACA, Station KMCL-FM, Facility ID 7377, From MCCALL, ID, To PARMA, ID; BURBACH OF DE, LLC, BPH-20070119AAU, Station WRZZ, Facility ID 41082, From ELIZABETH, WV, To PARKERSBURG, WV; BURBACH OF DE, LLC, BPH-20070119AAW, Station WXIL, Facility ID 52015, From PARKERSBURG, WV, To ELIZABETH, WV; CAMERON BROADCASTING, INC., BPH-20070119AIE, Station KFLG-FM, Facility ID 55495, From KINGMAN, AZ, To BIG RIVER, CA; CAPSTAR TX LIMITED PARTNERSHIP, BPH-20070119AFN, Station WVRR, Facility ID 46334, From NEWPORT, NH, To WESTMINSTER, VT; CCR-ST. GEORGE IV, LLC, BPH-20070108AAW, Station KSNN, Facility ID 60457, From ST. GEORGE, UT, To LOGANDALE, NV; CHAMPLIN BROADCASTING, INC., BMPH-20070119AHK, Station NEW, Facility ID 165312, From ALVA, OK, To NORTH ENID, OK; CHISHOLM TRAIL BROADCASTING CO., BMPH-20070119AHJ, Station KNID, Facility ID 37123, From ALVA, OK, To MUSTANG, OK; CITADEL BROADCASTING COMPANY, BPH-20070119AEM, Station WNKT, Facility ID 38900, From ST. GEORGE, SC, To EASTOVER, SC; CITICASTERS LICENSES, L.P., BPH-20070119ADL, Station WFUS, Facility ID 63984, From BRADENTON, FL, To GULFPORT, FL; CITICASTERS LICENSES, L.P., BPH-20070119AHS, Station WJBT, Facility ID 68760, From GREEN COVE SPRINGS, FL, To HASTINGS, FL; CLEAR CHANNEL BROADCASTING LICENSES, INC., BMPH-20070119AEB, Station KRVK, Facility ID 88406, From MIDWEST, WY, To BAR NUNN, WY; CLEAR CHANNEL BROADCASTING LICENSES, INC., BPH-20070119AED, Station KWYY, Facility ID 26300, From CASPER, WY, To MIDWEST, WY; CLEAR CHANNEL BROADCASTING LICENSES, INC., BPH-20070119AEK, Station WLDI, Facility ID 2680, From FORT PIERCE, FL, To JUNO BEACH, FL; CLEAR CHANNEL BROADCASTING LICENSES, INC., BPH-20070119AFQ, Station WTSM, Facility ID 4910, From SPRINGFIELD, VT, To SWANZEY, NH; CLEAR CHANNEL BROADCASTING LICENSES, INC., BPH-20070119AHM, Station WKGR, Facility ID 1245, From FORT PIERCE, FL, To WELLINGTON, FL; CLEAR CHANNEL BROADCASTING LICENSES, INC., BPH-20070119AHR, Station WPLA, Facility ID 51974, From JACKSONVILLE, FL, To GREEN COVE SPRINGS, FL; CMP KC LICENSING, LLC, BMPH-20070119AAK, Station KMJK, Facility ID 33713, From LEXINGTON, MO, To NORTH KANSAS CITY, MO; COCHISE BROADCASTING LLC, BMPH-20070119ABZ, Station NEW, Facility ID 166049, From TORREY, UT, To MILFORD, UT; COCHISE BROADCASTING LLC, BMPH-20070119AEF, Station NEW, Facility ID 166050, From TUBA CITY, AZ, To DONEY PARK, AZ; COMMONWEALTH BROADCASTING, LLC, BPH-20070119ADI, Station KSXY, Facility ID 72925, From MIDDLETOWN, CA, To GEYSERVILLE, CA; COMMONWEALTH BROADCASTING, LLC, BPH-20070119ADI, Station KSXY, Facility ID 72925, From MIDDLETOWN, CA, To GEYSERVILLE, CA; COX RADIO, INC., BPH-20070119AHN, Station WHIO-FM, Facility ID 73908, From PIQUA, OH, To SHARONVILLE, OH; CUMULUS LICENSING LLC, BPH-20070119AAG, Station WFAS-FM, Facility ID 14380, From WHITE PLAINS, NY, To BRONXVILLE, NY; CUMULUS LICENSING LLC, BPH-20070119AAH, Station WWIZ, Facility ID 23437, From MERCER, PA, To WEST MIDDLESEX, PA; CUMULUS LICENSING LLC, BMPH-20070119AAI, Station NEW, Facility ID 162261, From LANESBORO, MN, To CHATFIELD, MN; CUMULUS LICENSING LLC, BMPH-20070119ADF, Station NEW, Facility ID 164159, From HUMBOLDT, NE, To EFFINGHAM, KS; CUMULUS LICENSING LLC, BMPH-20070119ADH, Station NEW, Facility ID 162254, From DINOSAUR, CO, To PARACHUTE, CO; CUMULUS LICENSING LLC, BPH-20070119AFH, Station KNRQ-FM, Facility ID 12501, From EUGENE, OR, To TUALATIN, OR; EDUCATIONAL MEDIA FOUNDATION, BPH-20070119AFL, Station KLVS, Facility ID 70676, From GRASS VALLEY, CA, To CITRUS HEIGHTS, CA; EDUCATIONAL MEDIA FOUNDATION, BPH-20070119AGP, Station KYAR, Facility ID 36844, From GATESVILLE, TX, To LORENA, TX; EDUCATIONAL MEDIA FOUNDATION, BPH-20070119AHA, Station KLVA, Facility ID 2749, From CASA GRANDE, AZ, To MARICOPA, AZ; EDUCATIONAL MEDIA FOUNDATION, BPH-20070119AHG, Station KKLC, Facility ID 60022, From MT. SHASTA, CA, To FALL RIVER MILLS, CA; ELGIN BROADCASTING CO., INC., BPH-20070119AHP, Station WJKL, Facility ID 19221, From ELGIN, IL, To GLENDALE HEIGHTS, IL; ENTERCOM SACRAMENTO LICENSE, LLC, BP-20070119ACI, Station KCTC , Facility ID 67848, From SACRAMENTO, CA, To WEST SACRAMENTO, CA; FARM & HOME BROADCASTING COMPANY, BPH-20070119AAL, Station WFRM-FM, Facility ID 21197, From COUDERSPORT, PA, To PORTVILLE, NY; FFD HOLDINGS I, INC., BPH-20070119AEH, Station KMOQ, Facility ID 64435, From BAXTER SPRINGS, KS, To COLUMBUS, KS; FFD HOLDINGS I, INC., BPH-20070119AFB, Station KCAR-FM, Facility ID 86554, From GALENA, KS, To BAXTER SPRINGS, KS; FFD HOLDINGS I, INC., BP-20070119AEP, Station KQYX , Facility ID 5268, From JOPLIN, MO, To GALENA, KS; FIRST BROADCASTING CAPITAL PARTNERS, LLC, BPH-20070122AKI, Station WAOL, Facility ID 56226, From RIPLEY, OH, To AMELIA, OH; FRANKLIN COMMUNICATIONS, INC., BPH-20070119ACO, Station WJZK, Facility ID 30563, From RICHWOOD, OH, To GRANDVIEW HEIGHTS, OH; FRANKLIN COMMUNICATIONS, INC., BPH-20070119ACQ, Station WQEL, Facility ID 7112, From BUCYRUS, OH, To RICHWOOD, OH; GAFFNEY BROADCASTING, INC., BMPH-20070119ACY, Station WAGI-FM, Facility ID 23006, From GAFFNEY, SC, To BESSEMER CITY, NC; GLADES MEDIA COMPANY LLP, BMPH-20070119AES, Station WAFC-FM, Facility ID 24230, From CLEWISTON, FL, To PALM BEACH GARDENS, FL; GLORY COMMUNICATIONS, INC., BPH-20070119AGD, Station WPDT, Facility ID 66643, From JOHNSONVILLE, SC, To COWARD, SC; GLORY COMMUNICATIONS, INC., BP-20070119AGC, Station WALD, Facility ID 27463, From WALTERBORO, SC, To JOHNSONVILLE, SC; GLORY COMMUNICATIONS, INC., BP-20070119AAM, Station WEAF, Facility ID 24146, From CAMDEN, SC, To SPRINGDALE, SC; HORIZON BROADCASTING GROUP LLC, BPH-20070119AAT, Station KWLZ-FM, Facility ID 13581, From WARM SPRINGS, OR, To WEST LINN, OR; HURON BROADCASTING, LLC, BPH-20070119AHU, Station KZLA, Facility ID 86866, From HURON, CA, To RIVERDALE, CA; J. L. BREWER BROADCASTING OF CLEVELAND, LLC, BPH-20070119AGX, Station WALV-FM, Facility ID 70784, From DAYTON, TN, To LAKESITE, TN; JACKMAN HOLDING COMPANY, LLC, BMPH-20070119AEL, Station NEW, Facility ID 166038, From STRATFORD, NH, To BRETTON WOODS, NH; JACKMAN PROPERTIES, LLC, BMP-20070119AHL, Station NEW, Facility ID 129643, From EXMORE, VA, To RUSHMERE, VA; JAMES FALCON, BMPH-20070119AHZ, Station NEW, Facility ID 164195, From SEYMOUR, TX, To PLEASANT VALLEY, TX; JOHN W. PIRKLE, BPH-20070119AAE, Station WNFZ, Facility ID 31837, From OAK RIDGE, TN, To POWELL, TN; KETELSEN, MATTHEW L, BMPH-20070119ACS, Station NEW, Facility ID 165993, From BELVIEW, MN, To WINTHROP, MN; KEVIN J. YOUNGERS, BMPH-20070119AET, Station KPCR, Facility ID 165960, From BURLINGTON, CO, To FOWLER, CO; KEVIN J. YOUNGERS, BMPH-20070119AGT, Station KEZZ, Facility ID 165959, From WALDEN, CO, To BERTHOUD, CO; KIXC-FM L.L.C., BPH-20070119ADM, Station KWFB, Facility ID 24249, From QUANAH, TX, To HOLLIDAY, TX; KM COMMUNICATIONS, INC., BMPH-20070119AIA, Station NEW, Facility ID 166046, From BRECKENRIDGE, TX, To CISCO, TX; KM RADIO OF INDEPENDENCE, L.L.C., BPH-20070119AEI, Station KQMG-FM, Facility ID 42080, From INDEPENDENCE, IA, To SOLON, IA; LANE COUNTY SCHOOL DISTRICT 4J, BPH-20070122AAD, Station KMKR, Facility ID 59346, From OAKRIDGE, OR, To CANYONVILLE, OR; LIFELINE MINISTRIES, INC., BPH-20070119ACU, Station WGTI, Facility ID 173, From WINDSOR, NC, To DUCK, NC; LINDA C. CORSO, BPH-20070119AAJ, Station KRDE, Facility ID 37577, From GLOBE, AZ, To SAN CARLOS, AZ; LIVEAIR COMMUNICATIONS, INC., BMPH-20070119AAX, Station WZNY, Facility ID 166014, From OLD FORGE, NY, To CALCIUM, NY; LOCALLY OWNED RADIO, LLC, BMPH-20061102ABF, Station KISY, Facility ID 164129, From TWIN FALLS, ID, To KIMBERLY, ID; LORENZ E. PROIETTI, BMPH-20070119AIB, Station NEW, Facility ID 166042, From SILVERTON, CO, To MOUNTAIN VILLAGE, CO; MACDONALD BROADCASTING COMPANY, BPH-20070119ADZ, Station WSAG, Facility ID 87624, From PINCONNING, MI, To LINWOOD, MI; MAPLETON COMMUNICATIONS, LLC, BPH-20070119AAP, Station KPYG, Facility ID 9851, From CAMBRIA, CA, To CAYUCOS, CA; MCDANIEL, JAMES D, BNPH-20060310ACD, Station NEW, Facility ID 166023, From BUTTE FALLS, OR, To TALENT, OR; MCMURRAY COMMUNICATIONS, INC., BPH-20070119AGE, Station KXKQ, Facility ID 40916, From SAFFORD, AZ, To MORENCI, AZ; MEDIA EAST, LLC, BPH-20070119AAO, Station WSTK, Facility ID 85793, From AURORA, NC, To HARKERS ISLAND, NC; QANTUM OF CAPE COD LICENSE COMPANY, LLC, BPH-20070119AEX, Station WRZE, Facility ID 54037, From NANTUCKET, MA, To DENNIS, MA; RADICK CONSTRUCTION, INC., BMPH-20070119AAF, Station KSCY, Facility ID 164231, From BIG SKY, MT, To FOUR CORNERS, MT; RADIO GREENBRIER, INC., BPH-20070119AGN, Station WRON-FM, Facility ID 54597, From RONCEVERTE, WV, To ELLISTON-LAFAYETTE, VA; RADIO ONE LICENSES, LLC, BPH-20070119AGJ, Station WHHL, Facility ID 74578, From JERSEYVILLE, IL, To HAZELWOOD, MO; RADIO ONE LICENSES, LLC, BPH-20070119AGK, Station WQOK, Facility ID 69559, From SOUTH BOSTON, VA, To CARRBORO, NC; RADIOACTIVE, LLC, BMPH-20070119ABH, Station NEW, Facility ID 166030, From BURNSVILLE, WV, To CRAIGSVILLE, WV; RADIOACTIVE, LLC, BMPH-20070119AGU, Station WANK, Facility ID 164242, From MOUNT VERNON, KY, To CRAB ORCHARD, KY; RADIOACTIVE, LLC, BMPH-20070119AGV, Station WUPG, Facility ID 164243, From CRYSTAL FALLS, MI, To REPUBLIC, MI; RADIOACTIVE, LLC, BMPH-20070119AHC, Station WUPZ, Facility ID 164246, From REPUBLIC, MI, To QUINNESEC, MI; RADIOACTIVE, LLC, BMPH-20070119AHE, Station NEW, Facility ID 166027, From DRUMMOND, MT, To FRENCHTOWN, MT; RADIOACTIVE, LLC, BMPH-20070122AAH, Station NEW, Facility ID 164251, From SARANAC LAKE, NY, To DANNEMORA, NY; RADIOACTIVE, LLC, BMPH-20070122AAK, Station NEW, Facility ID 164249, From DANNEMORA, NY, To KEESEVILLE, NY; RAINEY BROADCASTING, INC, BNP-20041029AIW, Station NEW, Facility ID 160861, From ELLISVILLE, MS, To LAUREL, MS; RBG LAS VEGAS LICENSES, LLC, BPH-20070122ALT, Station KVGS, Facility ID 25752, From LAUGHLIN, NV, To MEADVIEW, AZ; RHATTIGAN BROADCASTING (TEXAS), LP, BPH-20070119ADO, Station KVOU-FM, Facility ID 69621, From UVALDE, TX, To D'HANIS, TX; RIVERS, LP, BNP-20041029AHO, Station NEW, Facility ID 161445, From JACKSON, MS, To FLOWOOD, MS; SAGA COMMUNICATIONS OF NEW ENGLAND, LLC, BPH-20070119ADA, Station WSNI, Facility ID 9795, From WINCHENDON, MA, To SWANZEY, NH; SARANAC LAKE RADIO, L.L.C., BPH-20070119AIC, Station WYZY, Facility ID 73315, From SARANAC LAKE, NY, To SARANAC, NY; SEBAGO BROADCASTING COMPANY, BPH-20061114ACF, Station WCTG, Facility ID 88405, From CHINCOTEAGUE, VA, To EDEN, MD; SHEILA CALLAHAN AND FRIENDS, INC., BMPH-20070119AAD, Station KMTZ, Facility ID 166087, From BOULDER, MT, To THREE FORKS, MT; SKYWEST MEDIA L.L.C., BMPH-20070119AGG, Station KRZX, Facility ID 164260, From MONTICELLO, UT, To REDLANDS, CO; SKYWEST MEDIA LLC, BMPH-20070119AHH, Station NEW, Facility ID 166055, From KAYCEE, WY, To EVANSVILLE, WY; SORENSON SOUTHEAST RADIO, LLC, BPH-20070119AGA, Station WZGA, Facility ID 26854, From HELEN, GA, To HAYESVILLE, NC; STEVEN M. GREELEY, BPH-20070122ALU, Station KJJJ, Facility ID 63410, From LAKE HAVASU CITY, AZ, To LAUGHLIN, NV; SUNBURST MEDIA-LOUISIANA, LLC, BPH-20070119ABG, Station KCIL, Facility ID 25520, From HOUMA, LA, To JEAN LAFITTE, LA; SUSQUEHANNA LICENSE CO, LIC, BP-20070119AEA, Station WGLD, Facility ID 55352, From RED LION, PA, To MANCHESTER, PA; THE GREAT MARATHON RADIO COMPANY, BPH-20070119AAQ, Station WGMX, Facility ID 65663, From MARATHON, FL, To LAYTON, FL; THE OPP BROADCASTING CO., INC., BPH-20070122AIT, Station WAMI-FM, Facility ID 66211, From OPP, AL, To FORT DEPOSIT, AL; THREE EAGLES OF LINCOLN, INC., BPH-20070119AFW, Station KFRX, Facility ID 34435, From LINCOLN, NE, To PAPILLION, NE; THROW FIRE PROJECT, BMP-20070119AFM, Station NEW, Facility ID 136921, From BAXTER, MN, To ROCKVILLE, MN; THUNDER ASSOCIATES, LLC, BPH-20070119ADP, Station WELD-FM, Facility ID 60922, From PETERSBURG, WV, To MOOREFIELD, WV; TWENTY-ONE SOUND COMMUNICATIONS, INC, BPH-20070119AGR, Station KNSX, Facility ID 68579, From STEELVILLE, MO, To HERMANN, MO; TWENTY-ONE SOUND COMMUNICATIONS, INC., BMPH-20070119AGO, Station KESY, Facility ID 79236, From CUBA, MO, To STEELVILLE, MO; VIRDEN BROADCASTING CORP., BPH-20070119AGY, Station WYEC, Facility ID 70277, From KEWANEE, IL, To CAMBRIDGE, IL; VIRDEN BROADCASTING CORP., BPH-20070119AGY, Station WYEC, Facility ID 70277, From KEWANEE, IL, To CAMBRIDGE, IL; WHITE PARK BROADCASTING, INC., BPH-20070119ACJ, Station KZDR, Facility ID 162407, From CHEYENNE, WY, To DEER TRAIL, CO; WHITE PARK BROADCASTING, INC., BMPH-20070119AEG, Station KTED, Facility ID 164285, From DOUGLAS, WY, To EVANSVILLE, WY; WHITE PARK BROADCASTING, INC., BMPH-20070119AEQ, Station KDAD, Facility ID 164286, From DOUGLAS, WY, To BAR NUNN, WY; WIKS LICENSE LIMITED PARTNERSHIP, BPH-20070119AEO, Station WIKS, Facility ID 72389, From NEW BERN, NC, To GRIFTON, NC; WILDCAT COMMUNICATIONS, L.L.C., BPH-20070119AAR, Station KQZR, Facility ID 86173, From CRAIG, CO, To GYPSUM, CO; WRHC BROADCASTING CORP., BP-20070119AGM, Station WRHC , Facility ID 73945, From CORAL GABLES, FL, To DORAL, FL; WVJT, LLC, BPH-20060918ABK, Station WXCF-FM, Facility ID 28340, From CLIFTON FORGE, VA, To RUSTBURG, VA; WVJT, LLC, BPH-20070119AGS, Station WIQO-FM, Facility ID 73158, From COVINGTON, VA, To FOREST, VA; WXNR LICENSE LIMITED PARTNERSHIP, BPH-20070119AEU, Station WXNR, Facility ID 64648, From GRIFTON, NC, To RIVER BEND, NC; YAVAPAI BROADCASTING CORPORATION, BPH-20070119AIF, Station KKLD, Facility ID 51642, From COTTONWOOD, AZ, To CLARKDALE, AZ.

Federal Communications Commission.
James D. Bradshaw,
Deputy Chief, Audio Division, Media Bureau.

[FR Doc. E7-2424 Filed 2-13-07; 8:45 am]

BILLING CODE 6712-01-P